ENVIRONMENTAL PROTECTION AGENCY

[FRL-8575-1; Docket ID No. EPA-HQ-ORD-2008-0111]

Draft Toxicological Review of Cerium Oxide and Cerium Compounds: In Support of the Summary Information in the Integrated Risk Information System (IRIS)

AGENCY: Environmental Protection Agency (EPA).

ACTION: Notice of Listening Session.

SUMMARY: EPA is announcing a listening session to be held on June 25, 2008, during the public comment period for the draft document entitled, “Toxicological Review of Cerium Oxide and Cerium Compounds: In Support of Summary Information on the Integrated Risk Information System (IRIS)”. This listening session is a new step in EPA's revised process, announced on April 10, 2008, for development of human health assessments for inclusion on IRIS. The purpose of the listening session is to allow all interested parties to present scientific and technical comments on draft IRIS health assessments to EPA and other interested parties during the public comment period and prior to the external peer review meeting. EPA welcomes the scientific and technical comments that will be provided to the Agency by the listening session participants. The comments will be considered by the Agency as it revises the draft assessment in response to the independent external peer review and public comments. All electronic or hard copies of presentations made at the meeting will become part of the official and public record.

The EPA's draft assessment and peer review charge are available via the Internet on the National Center for Environmental Assessment's (NCEA) home page under the Recent Additions and the Data and Publications menus at http://www.epa.gov/ncea.

DATES: The listening session on the draft IRIS health assessment for cerium oxide and cerium compounds will be held on June 25, 2008, beginning at 9 a.m. and ending at 4 p.m., Eastern Daylight Time. If you wish to make a presentation at the listening session, you should register by June 20, 2008, and indicate that you wish to make oral comments at the session including the length of your presentation. At the time of your registration, please indicate if you require audio-visual aid (e.g. lap top and slide projector). In general, each presentation should be no more than 30 minutes. If, however, there are more requests for presentations than the allotted time will allow, then the time limit for each presentation will be adjusted accordingly. Participants may also register at the beginning of the listening session to make comments. The order of the presentations will follow the order of registration. A copy of the agenda for the listening session will be available at the meeting.

The public comment period for review of this draft assessment was announced previously in the Federal Register (FR) (73 FR 24982-24983) on May 6, 2008. As stated in that FR notice, the public comment period began on May 5, 2008, and ends June 30, 2008. Any technical comments submitted during the public comment period should be in writing and must be received by EPA by June 30, 2008, according to the procedures outlined below. Only those public comments submitted using the procedures identified in the May 6 FR notice by the June 30 deadline can be assured of being provided to the independent peer review panel prior to the peer review meeting to be held on July 8, 2008. The logistics for the peer review meeting were announced in the May 6, 2008, FR notice.

Listening session participants who wish to have their comments available to the external peer reviewers should also submit written comments during the public comment period using the detailed and established procedures included in the aforementioned FR notice (May 6, 2008). Comments submitted to the docket prior to the end of the public comment period will be submitted to the external peer reviewers and considered by EPA in the disposition of public comments. Comments received in the docket after the public comment period closes must still be submitted to the docket but will not be submitted to the external peer reviewers.

ADDRESSES: The listening session on the draft cerium assessment will be held at the EPA offices at Two Potomac Yard (North Building), 7th Floor, Room 7100, 2733 South Crystal Drive, Arlington, Virginia 22202. To attend the listening session, please register by June 20, 2008, via e-mail at ross.christine@epa.gov (subject line: cerium oxide listening session), by phone: 703-347-3389, or by faxing a registration request to 703-347-8689 (please reference the “Cerium Oxide Listening Session” and include your name, title, affiliation, full address and contact information). Please note that to gain entrance to this EPA building to attend the meeting, attendees must have photo identification with them and must register at the guard's desk in the lobby. The guard will retain your photo identification and will provide you with a visitor's badge. At the guard's desk, attendees should give the name Christine Ross and the telephone number 703-347-3389, to the guard on duty. The guard will contact Ms. Ross, who will meet you in the reception area to escort you to the meeting room. Upon your exit from the building please return your visitor's badge and you will receive the photo identification that you provided.

A teleconference line will also be available for participants. The teleconference number is 866-299-3188 and the access code is 1068186199, followed by the pound sign (#). The teleconference line will be activated at 8:45 a.m., and you will be asked to identify yourself and your affiliation at the beginning of the call.

Information on Services for Individuals with Disabilities: For information on access or services for individuals with disabilities, please contact Christine Ross at 703-347-3389 or ross.christine@epa.gov. To request accommodation of a disability, please contact Christine Ross, preferably at least 10 days prior to the meeting, to give EPA as much time as possible to process your request.

FOR FURTHER INFORMATION CONTACT: For information on the public listening sessions, please contact Christine Ross, IRIS Staff, National Center for Environmental Assessment, (8601P), U.S. EPA, 1200 Pennsylvania Avenue, NW., Washington, DC 20460; telephone: 703-347-3389; facsimile: 703-347-8689; or e-mail: ross.christine@epa.gov. If you have questions about the draft cerium assessment, contact Martin Gehlhaus, IRIS Staff, National Center for Environmental Assessment, (8601P), U.S. EPA, 1200 Pennsylvania Avenue, NW., Washington, DC 20460; telephone: 703-347-8579; facsimile: 703-347-8689; or e-mail: gehlhaus.martin@epa.gov.

SUPPLEMENTARY INFORMATION: This listening session is a new step in EPA's revised process, announced on April 10, 2008, for development of human health assessments for inclusion on IRIS. The new process is posted on the NCEA home page under the Recent Additions menu at http://www.epa.gov/ncea. Two listening sessions are scheduled under the new IRIS process. The first is during the public review of the draft assessment that includes only qualitative discussion. The second session is during the public review of the externally peer-reviewed draft assessment; if feasible, this draft will include both qualitative and quantitative elements (i.e., a “complete draft”). All IRIS assessments that are at the document development stage will follow the revised process, which includes the two listening sessions. However, when EPA initiated the new IRIS process, its draft assessment for Cerium Oxide and Cerium Compounds had already been released for public review and comment, so EPA will only hold one listening session during the public review and comment period of the externally peer-reviewed draft.

Dated: May 28, 2008.
Peter W. Preuss,
Director, National Center for Environmental Assessment.

[FR Doc. E8-12382 Filed 6-2-08; 8:45 am]

BILLING CODE 6560-50-P